DEPARTMENT OF TRANSPORTATION

Pipeline and Hazardous Materials Safety Administration

Hazardous Materials: Actions on Special Permit Applications

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on October 5, 2015.
Don Burger,
Chief, Special Permits and Approvals Branch.

S.P. No. | Applicant | Regulation(s) | Nature of special permit thereof
MODIFICATION SPECIAL PERMIT GRANTED
15071-M | Orbital ATK, Inc., Dulles, VA | 49 CFR 173.62(c) | To modify the special permit to authorize cargo aircraft only.
15097-M | U.S. Consumer Product Safety Commission, Denver, CO | 49 CFR 173.56 | To modify the special permit to authorize transportation for testing purposes of unapproved explosives as Division 1.4G explosives.
14149-M | Digital Wave Corporation, Centennial, CO | 49 CFR 172.23(a), 172.301(c), and 180.205 | To modify the special permit to authorize changes in ownership of affected sites and, the addition of new sites on the special permit.
14206-M | Digital Wave Corporation, Centennial, CO | 49 CFR 172.203(a), 172.301(c), and 180.205 | To modify the special permit by removing the requirement to check gain control accuracy every six months with calibrated equipment.
16429-M | Construction Helicopters, Inc. dba CHI Aviation, Howell, MI | 49 CFR 172.101 Hazardous Materials Table Column (9B), Subpart C of Part 172, 172.301(c), 175.30 | To modify the special permit to remove the provision “training or qualification of a new crew member will not take place during the execution of this special permit.”
11924-M | Packgen, Auburn, ME | 49 CFR 173.12(b)(2)(i) | To modify the special permit to allow specific IBCs to be used as outer packaging for lab pack applications.
NEW SPECIAL PERMIT GRANTED
16212-N | Entegris, Inc., Billerica, MA | 49 CFR 176.83(b) | To authorize the transportation in commerce of certain dual hazard gases without meeting segregation requirements when transported by vessel. (mode 3).
16514-N | Best Buy Co., Inc., Richfield, MA | 49 CFR 172.301(c), 173.185(c)(1)(iii), 173.185(c)(3)(i) | To authorize the transportation in commerce of packages containing lithium cells and batteries without the markings required in 88 173.185(c)(1)(iii) and 173.185(c)(3)(i) when contained in overpacks and transported via motor vehicle between distribution centers and retail stores that hold party status to this special permit; persons who receive these overpacks and do not offer overpacks under the terms of this special permit do not need party status. (mode 1).
16518-N | Midwest Helicopter Airways, Inc., Willowbrook, IL | 49 CFR 172.200, 172.301(c), 175.33, Part 178 | To authorize the transportation in commerce in the U.S. of certain hazardous materials by 14 CFR part 133 Rotorcraft External Load Operations transporting hazardous materials attached to or suspended from an aircraft. Such transportation is in support of operations when the use of cranes or other lifting devices is impracticable or unavailable or when aircraft is the only means of transportation, without being subject to certain hazard communication requirements, quantity limitations, packaging and loading and storage requirements. (mode 4).
16536-N | FIBA Technologies, Inc., Littleton, MA | 49 CFR 172.203(a), 178.37(k)(2)(i), 178.45(j)(1) | To authorize the DOT 3AA, 3AAX and DOT 3T specification cylinders using an alternative tensile test specimen for batch acceptance. (modes 1, 2, 3, 4).
16504-N | iDrink Products, Inc., Ann Arbor, MI | 49 CFR 171.2(k), 172.202(a)(5)(iii)(B), Subpart H of Part 172 | To authorize the transportation in commerce of certain used DOT Specification 3AL cylinders and containers that contain carbon dioxide, but not necessarily in an amount qualifying as hazardous material. (modes 1, 2).
EMERGENCY SPECIAL PERMIT GRANTED
16538-N | Veolia ES Technical Solutions, L.L.C., Flanders, NJ | 49 CFR 173.224(c)(3) | To authorize the one-way transportation in commerce of 100 grams of dimethyl 1,1'- azobis (1-cyclohexanecar-boxylate) by highway for disposal. (mode 1).
16566-N | Sunset Helicopters Inc., Reno, NV | 49 CFR Table § 175.75, § 175.220(b)(1) | To authorize the transportation in commerce of certain hazardous materials by 14 CFR part 133 Rotorcraft External Load Operations transporting hazardous materials attached to or suspended from an aircraft in remote areas of the U.S. only. Such transportation occurs when aircraft is the only means of transportation, without being subject to certain hazard communication requirements, quantity limitations, packaging and loading and storage requirements. (mode 4).
16569-N | The Boeing Company, St. Charles, MO | 49 CFR 172.101 Column (9B), § 172.204(c)(3); § 173.27(b)(2) and (3) | To authorize the transportation in commerce of certain explosives that are forbidden for transportation by cargo only aircraft. (mode 4).
16555-N | Advance Research Chemicals, Inc., Catoosa, OK | 49 CFR 173.227(b)(2)(iii) | To authorize the transportation in commerce of a Division 6.1, Packing Group I, Hazard Zone B material poisonous by inhalation in specially designed UN 1A1 stainless steel drums without the cap seal specified in § 173.227(b)(2)(iii). (mode 1).
NEW SPECIAL PERMIT WITHDRAWN
16511-N | Air Products and Chemicals, Inc., Allentown, PA | 49 CFR 173.301(f), 173.301(g) | To authorize the transportation in commerce of hydrogen chloride, anhydrous in certain DOT specification cylinders without pressure relief devices. (modes 1, 3).
16554-N | Apple, Inc., Cupertino, CA | 49 CFR Subparts C through H of Part 172, 173.185(f) | To authorize the transportation in commerce of recalled lithium ion batteries contained in equipment in retail packaging by motor vehicle. (mode 1).
16558-N | National Aeronautics and Space Administration, Washington, DC | 49 CFR 173.185(c)(1)(iv), 173.185(c)(4) | To authorize the transportation in commerce of certain lithium metal batteries contained in equipment in non-UN performance oriented packaging. (modes 1, 4).
EMERGENCY SPECIAL PERMIT WITHDRAWN
16570-N | iDrink Products, Inc., Ann Arbor, MI | 49 CFR 173.306(a)(1) | To authorize the transportation in commerce of Specification DOT 3AL cylinders greater than 4 fluid ounces containing compressed carbon dioxide as a limited quantity. (modes 1, 2).
DENIED
8009-M | Request by FIBA Technologies, Inc., Littleton, MA, September 30, 2015. To modify the special permit to remove the special permit number and restamp the letters “CNG” on 3AAX Cylinders that are test ring heat treated in a continuous furnace and add rail freight and cargo vessel as additional modes of transportation.
16520-N | Request by Southern Helicopters, Inc., Sunshine, LA, September 18, 2015. To authorize the transportation in commerce of certain hazardous materials by 14 CFR part 133 Rotorcraft External Load Operations transporting hazardous materials attached to or suspended from an aircraft in remote areas of the U.S. only. Such transportation occurs when aircraft is the only means of transportation, without being subject to certain hazard communication requirements, quantity limitations, packaging and loading and storage requirements.

[FR Doc. 2015-26258 Filed 10-16-15; 8:45 am]

BILLING CODE 4909-60-M